DEPARTMENT OF COMMERCE

Foreign-Trade Zones Board

[Docket 3-2007]

Foreign-Trade Zone 43 Battle Creek, Michigan, Termination of Review of Sourcing Change, Subzone 43D, Perrigo Company (Ibuprofen Products), Allegan, Michigan

Notice is hereby given of termination of a sourcing change review relating to the over-the-counter (OTC) ibuprofen operations at Subzone 43D at the Perrigo Company (Perrigo) OTC pharmaceutical manufacturing facilities in Allegan, Michigan (72 FR 10642, 3/9/07). The termination is based on an analysis of the record and resulting determination that no Board action is warranted.

Dated: October 1, 2009.
Andrew McGilvray,
Executive Secretary.

[FR Doc. E9-24337 Filed 10-7-09; 8:45 am]

BILLING CODE 3510-DS-S